DEPARTMENT OF THE INTERIOR

Fish and Wildlife Service

[FWS-R7-R-2008-N0083; 70135-8422-YKFX-U4]

Yukon Flats National Wildlife Refuge, Alaska

AGENCY: Fish and Wildlife Service, Interior.

ACTION: Notice of reopening of the public comment period for the draft Environmental Impact Statement for a Proposed Land Exchange in Yukon Flats National Wildlife Refuge, Alaska.

SUMMARY: On January 25, 2008, the Fish and Wildlife Service published a Federal Register Notice (73 FR 4617) announcing the availability of the Draft Environmental Impact Statement (DEIS) for a Proposed Land Exchange in the Yukon Flats National Wildlife Refuge, Alaska, and the beginning of a 60-day comment period. In response to numerous requests from Tribal Governments, non-governmental organizations, and the general public we are reopening the comment period for an additional 30 days. We will consider these public comments when revising the document.

DATES: We must receive your comments on or before May 19, 2008.

ADDRESSES: Written comments should be mailed to: Yukon Flats EIS Project Office, c/o ENSR, 1835 S. Bragaw Street, Suite 490, Anchorage, AK 99508-3438 or submitted on-line at http://yukonflatseis.ensr.com. To request a paper copy or compact disk of the DEIS, contact: Cyndie Wolfe, Project Coordinator, U.S. Fish and Wildlife Service, 1011 East Tudor Road, MS-231, Anchorage, AK 99503, or yukonflats_noi@fws.gov or at 907-786-3463. You may view or download a copy of the DEIS at: http://yukonflatseis.ensr.com. Copies of the DEIS may be viewed at the Yukon Flats National Wildlife Refuge Office in Fairbanks, Alaska and at the U.S. Fish and Wildlife Service Regional Office in Anchorage, Alaska.

FOR FURTHER INFORMATION CONTACT: Cyndie Wolfe at the above address.

Dated: April 10, 2008.
Gary Edwards,
Acting Regional Director, U.S. Fish and Wildlife Service, Anchorage, Alaska.

[FR Doc. E8-8263 Filed 4-16-08; 8:45 am]

BILLING CODE 4310-55-P